FEDERAL COMMUNICATIONS COMMISSION

47 CFR Part 73

[ET Docket No. 01-75; FCC 02-298]

Broadcast Auxiliary Service Rules

AGENCY: Federal Communications Commission.

ACTION: Correcting amendment.

SUMMARY: On November 13, 2002, the Commission released a Report and Order in the matter of Broadcast Auxiliary Service Rules. This document contains corrections to the final regulations that appeared in the Federal Register of March 17, 2003 (68 FR 12744). A “correcting amendment” also appeared in the Federal Register of July 22, 2004 (69 FR 43772).

DATES: Effective September 1, 2004.

FOR FURTHER INFORMATION CONTACT: Ted Ryder, Office of Engineering and Technology, (202) 418-2803.

SUPPLEMENTARY INFORMATION:

Background

The final regulations that are the subject of this correction relate to Broadcast Auxiliary Service Rules under § 73.3598 of the rules.

Need for Correction

As published, the final regulations contain an error, which requires immediate correction.

List of Subjects in 47 CFR Part 73

Communications equipment, Radio, Reporting and recordkeeping requirements, Television.

Accordingly, 47 CFR part 73 is corrected by making the following correcting amendment:

PART 73—RADIO BROADCAST SERVICES

1. The authority citation for part 73 continues to read as follows:

Authority: 47 U.S.C. 154, 303, 334, and 336.

2. Section 73.3598 is amended by revising paragraph (a) to read as follows:

§ 73.3598 Period of construction.

(a) Each original construction permit for the construction of a new TV, AM, FM or International Broadcast; low power TV; TV translator; TV booster; FM translator; or FM booster station, or to make changes in such existing stations, shall specify a period of three years from the date of issuance of the original construction permit within which construction shall be completed and application for license filed. Each original construction permit for the construction of a new LPFM station shall specify a period of eighteen months from the date of issuance of the construction permit within which construction shall be completed and application for license filed.

* * * * *

Federal Communications Commission.
Marlene H. Dortch,
Secretary.

[FR Doc. 04-19894 Filed 8-31-04; 8:45 am]

BILLING CODE 6712-01-P